DEPARTMENT OF AGRICULTURE

Commodity Credit Corporation

7 CFR Part 1423

RIN 0560-AE50

Standards for Approval of Warehouses for Storage of CCC Commodities

AGENCY: Commodity Credit Corporation, USDA.

ACTION: Final rule; correction.

SUMMARY: This document corrects the final rule published on June 22, 2006, amending the regulations covering the storage of commodities owned by the Commodity Credit Corporation (CCC). A correction is needed because the amended rule contains an incorrect reference to a regulatory provision.

DATES: Effective Date: June 22, 2006.

FOR FURTHER INFORMATION CONTACT: Phillip Elder, Regulatory Review Group, Economic and Policy Analysis Staff, Farm Service Agency (FSA), United States Department of Agriculture (USDA), Stop 0572, 1400 Independence Ave., SW., Washington, DC 20250-0572. Telephone: (202) 690-8104; e-mail: Phillip.Elder@wdc.usda.gov. Persons with disabilities who require alternative means for communication (Braille, large print, audio tape, etc.) should contact the USDA Target Center at (202) 720-2600 (voice and TDD).

SUPPLEMENTARY INFORMATION:

Background

This rule corrects the final rule published in the Federal Register on June 22, 2006 (71 FR 35771) that amended regulations covering the storage of commodities owned by the Commodity Credit Corporation (CCC). Section 1423.8 (b) of the final rule inadvertently contained a reference to section 1423.4(c)(5), which does not exist. This document removes that reference.

List of Subjects in 7 CFR Part 1423

Agricultural commodities, Approval of warehouses, Dairy products, Feed grains, Oilseeds, Price support programs, Processed commodities, Surplus agricultural commodities.

For this reason, 7 CFR part 1423 is amended as follows:

PART 1423—COMMODITY CREDIT CORPORATION APPROVED WAREHOUSES

1. The authority citation for part 1423 continues to read as follows:

Authority: 15 U.S.C. 714b and 714c.

2. Amend § 1423.8 (b) by revising the third sentence to read as follows:

§ 1423.8 Approval or rejection.

* * * * *

(b) * * * CCC will reconsider a warehouse for approval when the warehouse operator establishes that the reasons for rejection have been remedied or requests reconsideration of the action and presents to the Director, KCCO, in writing, information in support of such request.

* * * * *

Signed in Washington, DC, on July 17, 2006.
Teresa C. Lasseter,
Executive Vice President, Commodity Credit Corporation.

[FR Doc. E6-11762 Filed 7-24-06; 8:45 am]

BILLING CODE 3410-05-P